DEPARTMENT OF HOUSING AND URBAN DEVELOPMENT

[Docket No. FR-5376-N-14]

Cooperative Share Loan Insurance

AGENCY: Office of the Chief Information Officer, HUD.

ACTION: Notice.

SUMMARY: The proposed information collection requirement described below has been submitted to the Office of Management and Budget (OMB) for review, as required by the Paperwork Reduction Act. The Department is soliciting public comments on the subject proposal.

New guidance for cooperative housing loan insurance will be published to update existing policies, and better enable mortgagees to submit cooperative share loans for FHA insurance. This new publication will provide instructions to lenders to ensure compliance with project requirements, origination, servicing, and claims. The guidance includes matters concerning forward and reverse (HECM) mortgages, as well as compatible insurance programs. Mortgagees must collect documents and information about the cooperative corporation and housing project, which are needed to evaluate the share loans' eligibility, and ensure compliance with security and project, requirements. Additionally, the new instructions require a Cooperative Project Questionnaire, which will be used by lenders and FHA to document critical information relevant to the structure of the cooperative corporation and its eligibility for FHA insurance. Also required is a form Mortgagee Certification of Cooperative Eligibility, which is to be signed by the Mortgagee/Lender.

DATES: Comments Due Date: March 31, 2010.

ADDRESSES: Interested persons are invited to submit comments regarding this proposal. Comments should refer to the proposal by name and/or OMB approval Number (2502-NEW) and should be sent to: HUD Desk Officer, Office of Management and Budget, New Executive Office Building, Washington, DC 20503; fax: 202-395-5806.

FOR FURTHER INFORMATION CONTACT: Leroy McKinney Jr., Reports Management Officer, QDAM, Department of Housing and Urban Development, 451 Seventh Street, SW., Washington, DC 20410; e-mail Leroy McKinney Jr. at Leroy.McKinneyJr@hud.gov or telephone (202) 402-5564. This is not a toll-free number. Copies of available documents submitted to OMB may be obtained from Mr. McKinney.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: Cooperative Share Loan Insurance.

OMB Approval Number: 2502-NEW.

Form Numbers: HUD-92270, HUD-92271, HUD-92270-G.

Description of the Need for the Information and Its Proposed Use:

New guidance for cooperative housing loan insurance will be published to update existing policies, and better enable mortgagees to submit cooperative share loans for FHA insurance. This new publication will provide instructions to lenders to ensure compliance with project requirements, origination, servicing, and claims. The guidance includes matters concerning forward and reverse (HECM) mortgages, as well as compatible insurance programs. Mortgagees must collect documents and information about the cooperative corporation and housing project, which are needed to evaluate the share loans' eligibility, and ensure compliance with security and project, requirements. Additionally, the new instructions require a Cooperative Project Questionnaire, which will be used by lenders and FHA to document critical information relevant to the structure of the cooperative corporation and its eligibility for FHA insurance. Also required is a form Mortgagee Certification of Cooperative Eligibility, which is to be signed by the Mortgagee/Lender.

Frequency of Submission: On occasion.

| Number of respondents | Annual responses | x | Hours per response | = | Burden hours
Reporting Burden: | 12,670 | 12.670 |  | 2 |  | 2,000

Total Estimated Burden Hours: 2,000.

Status: New Collection.

Authority: Section 3507 of the Paperwork Reduction Act of 1995, 44 U.S.C. 35, as amended.

Dated: February 23, 2010.
Leroy McKinney, Jr.,
Departmental Reports Management Officer, Office of the Chief Information Officer.

[FR Doc. 2010-4155 Filed 2-26-10; 8:45 am]

BILLING CODE 4210-67-P